NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by November 2, 2011. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

The applications received are as follows:

Permit Application: 2012-010

1. Applicant: Mahlon C. Kennicutt, II, Professor of Oceanography, Department of Oceanography, Eller Oceanography & Meteorology Bldg., Rm. 608, 3146 TAMU, College Station, TX 77843-3146.

Activity for Which Permit Is Requested

Enter Antarctic Specially Protected Areas. The applicant plans to enter the Antarctic Specially Protect Areas of Hut Point, Ross Island (ASPA 158), Arrival Heights, Ross Island (ASPA 122), Backdoor Bay, Cape Royds (ASPA 157), and New College Valley, Cape Bird (ASPA 116). These sites are specifically targeted because of the nature of their geology, climatic influences and topography. Backdoor Bay (ASPA 157) and New College Valley (ASPA 116) are two sampling sites used as reference controls for the study of the temporal and spatial scales of various types of disturbances in and around McMurdo Station. The sampling locations at Backdoor Bay and New College Valley will be situated to avoid disturbance to biota in the area. The other sites, Arrival Heights (ASPA 122) and Hut Point (ASPA 158 have been sampled in previous field seasons and are slated to be sampled as part of the ongoing environmental monitoring program.

Location

Hut Point, Ross Island (ASPA 158), Arrival Heights, Ross Island (ASPA 122), Backdoor Bay, Cape Royds (ASPA 157), and New College Valley, Cape Bird (ASPA 116).

Dates

November 11, 2011 to December 31, 2011.

Nadene G. Kennedy,
Permit Officer, Office of Polar Programs.

[FR Doc. 2011-25320 Filed 9-30-11; 8:45 am]

BILLING CODE 7555-01-P